DEPARTMENT OF COMMERCE

International Trade Administration

[C-122-815]

Pure Magnesium and Alloy Magnesium from Canada: Final Results of 2005 Countervailing Duty Administrative Reviews

AGENCY: Import Administration, International Trade Administration, Department of Commerce.

SUMMARY: On April 20, 2007, the Department of Commerce published in the Federal Register the preliminary results of the administrative reviews of the countervailing duty orders on pure magnesium and alloy magnesium from Canada for the period January 1, 2005, through August 15, 2005. We gave interested parties an opportunity to comment on the preliminary results.

Our analysis of the comments received on the preliminary results did not lead to any changes in the net subsidy rate. Therefore, the final results do not differ from the preliminary results. The final net subsidy rate for the reviewed company is listed below in the section entitled “Final Results of Reviews.”

EFFECTIVE DATE: July 11, 2007.

FOR FURTHER INFORMATION CONTACT: Andrew McAllister or Brandon Farlander, AD/CVD Operations, Office 1, Import Administration, U.S. Department of Commerce, 14th Street and Constitution Avenue, NW., Washington, DC 20230; telephone (202) 482-1174 or (202) 482-0182, respectively.

SUPPLEMENTARY INFORMATION:

Background

On April 20, 2007, the Department of Commerce (“the Department”) published the preliminary results of the administrative reviews of the countervailing duty orders on pure magnesium and alloy magnesium from Canada for the period January 1, 2005, through August 15, 2005. See Pure Magnesium and Alloy Magnesium from Canada: Preliminary Results of Countervailing Duty Administrative Reviews, 72 FR 19881 (April 20, 2007) (“Preliminary Results”).

Norsk Hydro Canada, Inc. (“NHCI”) submitted a case brief on May 7, 2007. In its case brief, NHCI agreed with the Department's Preliminary Results with respect to NHCI. US Magnesium LLC (“the petitioner”) did not file a case or rebuttal brief.

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Period of Reviews

The period for which we are measuring subsidies, or POR, is January 1, 2005, through August 15, 2005.

Changes Since the Preliminary Results

Based on our analysis of the record and comments received, we have made no changes to the preliminary results net subsidy rate.

Final Results of Reviews

In accordance with 19 CFR 351.221(b)(5), we calculated an individual subsidy rate for the producer/exporter subject to these reviews. For the period January 1, 2005, through August 15, 2005, we find the net subsidy rate for NHCI to be 0.00 percent.

Cash Deposit Instructions

On July 6, 2006, pursuant to section 751(d)(2) of the Act and 19 CFR 351.222(i)(1)(iii), the Department revoked the countervailing duty orders on pure magnesium and alloy magnesium from Canada (see Revocation of the Countervailing Duty Orders: Pure Magnesium and Alloy Magnesium from Canada, 71 FR 38382 (July 6, 2006)). The effective date of the revocations is August 16, 2005. As a result of this action, we are not issuing cash deposit instructions.

Assessment Rates

Because the countervailing duty rate for NHCI is zero, we will instruct U.S. Customs and Border Protection (“CBP”) to liquidate entries of this company during the period January 1, 2005, through August 15, 2005, without regard to countervailing duties. The Department will issue appropriate instructions directly to CBP 41 days after the date of publication of these final results.

This notice serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These administrative reviews and notice are in accordance with section 751(a)(1) of the Act.

Dated: July 3, 2007.
David M. Spooner,
Assistant Secretary for Import Administration.

[FR Doc. E7-13482 Filed 7-10-07; 8:45 am]

BILLING CODE 3510-DS-P